SMALL BUSINESS ADMINISTRATION

Small Business Investment Company Interim Application Filing Window

AGENCY: U.S. Small Business Administration.

ACTION: Notice of SBIC program interim application filing window.

SUMMARY: The U.S. Small Business Administration (SBA) is providing notice of an interim filing window for the acceptance of SBA Form 2181, SBIC Management Assessment Questionnaires (MAQs or Applications) for licensing as a Small Business Investment Company (SBIC).

DATES: The SBIC program interim Application filing window due date identified in this notice is Friday, November 15, 2024, with a deadline for acceptance of Applications submitted prior to 5 p.m. eastern standard time (EST) to SBIC_Applications@SBA.gov.

FOR FURTHER INFORMATION CONTACT: Paul Van Eyl, Office of Investment and Innovation at 202-257-5955 or oii.policy@sba.gov. If you are deaf, hard of hearing, or have a speech disability, please dial 7-1-1 to access telecommunications relay services.

SUPPLEMENTARY INFORMATION: SBA may select to add and publicly announce additional SBIC Application filing windows. Application filings should be made on the actual window date prior to the deadline provided. Application filings made after the deadline date or between window dates, including interim filing window dates, will be held in abeyance until the next window opens. The next quarterly scheduled filing window due date is December 31, 2024. Incomplete MAQ submissions will not be accepted for processing. If an applicant fails to file by the deadline of a quarterly or interim filing deadline date, the applicant SBIC must either wait until the next quarterly window to refile or understand that SBA will take on action on the MAQ until the next quarterly filing window, which for this calendar year would be December 31, 2024, with a deadline of 5 p.m. EST. MAQ submissions should be emailed to SBIC_Applications@SBA.gov.

Bailey DeVries,
Associate Administrator, Office of Investment and Innovation, U.S. Small Business Administration.

[FR Doc. 2024-23088 Filed 10-4-24; 8:45 am]

BILLING CODE 8026-09-P